DEPARTMENT OF AGRICULTURE

Rural Business-Cooperative Service

Notice of Funding Availability for the Rural Energy for America Program

AGENCY: Rural Business-Cooperative Service, USDA.

ACTION: Notice.

SUMMARY: This Notice of Funding Availability (NOFA) announces the acceptance of applications under the Rural Energy for America Program (REAP) for Fiscal Year 2014 for financial assistance as follows: grants, guaranteed loans, and combined grants and guaranteed loans for the development and construction of renewable energy systems and for energy efficiency improvement projects. The Notice also announces the availability of mandatory budget authority carried over from Fiscal Year 2013 of approximately $24.7 million and $3.5 million of discretionary budget authority made available by Fiscal Year 2014 appropriations. The budget authority will support the above referenced REAP activities, for approximately $12.38 million in grant program level and approximately $57.8 million in guaranteed loan program level. The funding being announced does not include mandatory funding provided by the Agricultural Act of 2014 (2014 Farm Bill). The Rural Business-Cooperative Service (Agency) intends to publish a final rule for REAP later this fiscal year. The final rule will modify the interim rule for REAP based on comments received on the interim rule, which was published in the Federal Register on April 14, 2011 (76 FR 21110), and the proposed rule, which was published on April 12, 2013 (78 FR 22044). The Agency will publish a subsequent notice announcing the mandatory funds for fiscal year 2014 provided by the 2014 Farm Bill simultaneously with the final rule.

The 2014 Farm Bill repealed the authority for the feasibility study component of REAP and also removed the ability to provide assistance for flexible fuel pumps. Therefore applications for flexible fuel pumps and feasibility studies will not be determined eligible or awarded funds in Fiscal Year 2014 under REAP.

DATES: In order to be considered for Fiscal Year 2014 funds, complete applications under this Notice must be received by the appropriate USDA Rural Development State Office no later than 4:30 p.m. local time of the dates as follows:

For renewable energy system and energy efficiency improvement grant applications and combination grant and guaranteed loan applications: July 7, 2014.

For renewable energy system and energy efficiency improvement guaranteed loan only applications: On a continuous basis up to July 31, 2014.

ADDRESSES: See the SUPPLEMENTARY INFORMATION for addresses concerning applications for REAP for Fiscal Year 2014 funds.

FOR FURTHER INFORMATION CONTACT: For information about this Notice, please contact Mr. Kelley Oehler, Branch Chief, USDA Rural Development, Energy Division, 1400 Independence Avenue SW., Washington, DC 20250. Telephone: (202) 720-6819. Email: kelley.oehler@wdc.usda.gov.

For further information on this program, please contact the applicable USDA Rural Development Energy Coordinator for your respective State, as identified via the following link: http://www.rurdev.usda.gov/BCP_Energy_CoordinatorList.html.

SUPPLEMENTARY INFORMATION:

Fiscal Year 2014 Applications for the Rural Energy for America Program

Applications. Application materials may be obtained by contacting one of Rural Development's Energy Coordinators, as identified via the following link: http://www.rurdev.usda.gov/BCP_Energy_CoordinatorList.html. In addition, for grant applications, applicants may obtain electronic grant applications for REAP from http://www.Grants.gov.

Application Submittal. Submit complete paper applications to the Rural Development State Office in the State in which the applicant's proposed project is located.

Submit electronic grant only applications at http://www.Grants.gov, following the instructions found on this Web site.

Paperwork Reduction Act

In accordance with the Paperwork Reduction Act of 1995, the information collection requirements associated with renewable energy system and energy efficiency improvement grants and guaranteed loans, as covered in this Notice, has been approved by the Office of Management and Budget (OMB) under OMB Control Number 0570-0050.

Overview

Federal Agency Name: Rural Business-Cooperative Service.

Contract Proposal Title: Rural Energy for America Program.

Announcement Type: Initial announcement.

Catalog of Federal Domestic Assistance (CFDA) Number. 10.868.

Dates: Grant applications and combined grant and guaranteed loan applications for renewable energy systems and energy efficiency improvement projects under this Notice will be accepted up to July 7, 2014. Guaranteed loan only applications for renewable energy system and energy efficiency improvement projects will be accepted on a continuous basis, but to compete for Fiscal Year 2014 funding, complete applications must be submitted to the Agency by July 31, 2014.

For all applications submitted under this Notice, complete applications must be received by the appropriate USDA Rural Development State Office no later than 4:30 p.m. local time of the applicable application deadline date in order to be considered for Fiscal Year 2014 funds. Any application received after its applicable date and time, regardless of the postmark on the application, will not be considered for Fiscal Year 2014 funds.

Availability of Notice. This Notice is available through the USDA Rural Development Web site at http://www.rurdev.usda.gov/Energy.html.

I. Funding Opportunity Description

A. Purpose of the Rural Energy for America Program. The program is designed to help agricultural producers and rural small businesses reduce energy costs and consumption and help meet the Nation's critical energy needs.

B. Statutory Authority. This program is authorized under 7 U.S.C. 8107.

C. Definition of Terms. The definitions applicable to this Notice are published at 7 CFR 4280.103. In addition, the following definition applies to this Notice.

Hybrid. A combination of two or more renewable energy technologies that are incorporated into a unified system to support a single project.

II. Award Information

A. Available Funds. The amount of funds available for renewable energy systems and energy efficiency improvements in Fiscal Year 2014 will be approximately $12.38 million in mandatory grant program level and approximately $57.8 million in guaranteed loan program level. For renewable energy system and energy efficiency improvement grant projects only, there will be an allocation of funds to each State, and the Rural Development's National Office will maintain a reserve of funds. To ensure compliance with 7 U.S.C. 8107-(e), the Agency will use not less than 20 percent of the funds made available to REAP in Fiscal Year 2014 to fund grants of $20,000 or less.

B. Approximate Number of Awards. The number of awards will depend on amount of funds made available and on the number of eligible applicants participating in this program.

C. State and National Competitions. Renewable energy system and energy efficiency improvement applications for Fiscal Year 2014 funds will compete for funds allocated to their State for competition. Separate competitions will be held for (1) grant only and grant and guaranteed loan combination applications; and (2) guaranteed loan only applications. Grant only and grant and guaranteed loan combination applications will have one State competition. All unfunded eligible grant only and grant and guaranteed loan combination applications received by July 7, 2014, will be competed against other grant only and grant and guaranteed loan combination applications from other States at a final national competition. National competitions will be held monthly for guaranteed loan only applications. A minimum score of 50 is required for guaranteed loan only applications to compete in the National competitions. Finally, all unfunded eligible guaranteed loan only applications received by July 31, 2014, will be competed against other guaranteed loan only applications from other States at a final national competition if the guaranteed loan reserves have not been completely depleted. If funds remain after the final guaranteed loan only national competition, the Agency may elect to utilize budget authority to fund additional grant only and grant and guaranteed loan combination applications that competed in the national competition.

D. Type of Instrument. Grant, guaranteed loan, and grant/guaranteed loan combinations.

E. Funding Limitations. The following funding limitations apply to applications submitted under this Notice.

(1) Maximum grant assistance to an entity. For the purposes of this Notice, the maximum amount of grant assistance to an entity will not exceed $750,000 for Fiscal Year 2014 based on the total amount of renewable energy system and energy efficiency improvement grants awarded to an entity under REAP.

(2) Maximum percentage of Agency funding. The Food, Conservation, and Energy Act of 2008, Public Law 110-234, 122 Stat. 93 (May 22, 2008) (2008 Farm Bill) mandates the maximum percentages of funding that USDA Rural Development will provide. Within the maximum funding amounts specified in this Notice, renewable energy system and energy efficiency improvement funding approved for guaranteed loan only requests and for combination guaranteed loan and grant requests will not exceed 75 percent of eligible project costs, with the grant portion not to exceed 25 percent of total eligible project costs, whether the grant is part of a combination request or is a stand-alone grant.

(3) Renewable energy system and energy efficiency improvement grant-only applications. For renewable energy system grants, the minimum grant is $2,500 and the maximum is $500,000. For energy efficiency improvement grants, the minimum grant is $1,500 and the maximum grant is $250,000.

(4) Renewable energy system and energy efficiency improvement loan guarantee-only applications. For renewable energy system and energy efficiency improvement loan guarantees, the minimum guaranteed loan amount is $5,000 and the maximum amount of a guaranteed loan to be provided to a borrower is $25 million.

(5) Renewable energy system and energy efficiency improvement guaranteed loan and grant combination applications. Funding for grant and loan combination packages for renewable energy systems and energy efficiency improvement projects are subject to the funding limitations specified in Section II.E.(2). The maximum amount for the grant portion is $500,000 for renewable energy systems and $250,000 for energy efficiency improvements. The minimum amount of the grant portion is $1,500 for either renewable energy systems or energy efficiency improvements. For the guarantee portion, the maximum amount is $25 million and the minimum amount is $5,000.

F. Universal Identifier and System for Awards Management (SAM). Unless exempt under 2 CFR 25.110, all applicants must:

(1) Be registered in the SAM prior to submitting an application or plan;

(2) Maintain an active SAM registration with current information at all times during which it has an active Federal award or an application or plan under consideration by the Agency; and

(3) Provide its Dun and Bradstreet Data Universal Numbering System (DUNS) number in each application or plan it submits to the Agency.

(4) At the time the Agency is ready to make an award, if the applicant has not complied with paragraph F(1) through F(3) of this section, the Agency may determine the applicant is not eligible to receive the award.

G. Transparency Act Reporting. All recipients of Federal financial assistance are required to report information about first-tier subawards and executive compensation in accordance with 2 CFR part 170. So long as an entity applicant does not have an exception under 2 CFR 170.110(b), the applicant must have the necessary processes and systems in place to comply with the reporting requirements should the applicant receive funding. See 2 CFR 170.200(b).

III. Eligibility Information

A. Eligible Applicants. To be eligible for this program, an applicant must meet the eligibility requirements specified in 7 CFR 4280.109, 7 CFR 4280.110(c), and, as applicable, 7 CFR 4280.112, or 7 CFR 4280.122.

For the purpose of this Notice, and in addition to meeting the small business size determination as defined under small business in 7 CFR 4280.103, rural small business applicants must demonstrate that the majority (i.e., 51 percent or more) of their past 3 years' annual receipts from their business operation are derived from a rural area. If the rural small business applicant has not engaged in business operations for the past 3 years, then information for as long as the rural small business applicant has been in business must be submitted. To ensure that there is sufficient information for the Agency to make this determination, rural small business applicants, as part of their application requirements in 7 CFR 4280.116(b)(3)(v)(A), should list the physical address, total annual receipts, and number of employees for each urban or rural location. The Agency will make this determination for rural small business applicants that do not have any annual receipts (new businesses only) on the location of the rural small business applicant.

B. Eligible Lenders. To be eligible for this program, lenders must meet the eligibility requirements in 7 CFR 4280.130.

C. Eligible Projects. To be eligible for this program, a project must meet the eligibility requirements specified in 7 CFR 4280.113, and 7 CFR 4280.123, as applicable.

IV. Fiscal Year 2014 Application and Submission Information

Applicants seeking to participate in this program must submit applications in accordance with this Notice and 7 CFR part 4280, subpart B, as applicable. Applicants must submit complete applications containing all parts necessary for the Agency to determine applicant and project eligibility, to score the application, and to conduct the technical evaluation, as applicable in order to be considered. Due to the competitive nature of this program, information received by the Agency, that would impact the priority score and ranking of an application in Fiscal Year 2014 competitions cannot be considered by the Agency if received after the dates published in the Dates section of this Notice.

A. Where To Obtain Applications

Applicants may obtain applications from any USDA Rural Development Energy Coordinator, as identified via the following link: http://www.rurdev.usda.gov/BCP_Energy_CoordinatorList.html. In addition, for grant applications, applicants may access the electronic grant application for REAP at http://www.Grants.gov. To locate the downloadable application package for this program, the applicant must use the program's CFDA Number 10.868 or FedGrants Funding Opportunity Number, which can be found at http://www.Grants.gov.

When you enter the Grants.gov site, you will find information about submitting an application electronically through the site. To use Grants.gov, all applicants must have a DUNS number (unless the applicant is an individual), which can be obtained at no cost via a toll-free request line at 1-866-705-5711 or online at http://fedgov.dnb.com/webform. USDA Rural Development strongly recommends that applicants do not wait until the application deadline date to begin the application process through Grants.gov.

B. When To Submit

Complete applications submitted under this Notice must be received by the appropriate USDA Rural Development State Office no later than 4:30 p.m. local time on the applicable date as identified in the DATES section of this Notice, in order to be considered for Fiscal Year 2014 funds. Any application received after 4:30 p.m. local time on the applicable date, regardless of the postmark on the application, will not be considered for Fiscal Year 2014 funds.

C. Where To Submit

All renewable energy system and energy efficiency improvement applications are to be submitted to the USDA Rural Development Energy Coordinator in the State in which the applicant's proposed project is located. A list of USDA Rural Development Energy Coordinators is available via the following link: http://www.rurdev.usda.gov/BCP_Energy_CoordinatorList.html. Alternatively, for grant only applications, applicants may submit their electronic applications to the Agency via the Grants.gov Web site.

D. How To Submit

Applicants may submit their applications either as hard copy or electronically as specified in the following paragraphs. When submitting an application as hard copy, applicants must submit one original.

(1) Grant applications. All grant applications may be submitted either as hard copy to the appropriate Rural Development Energy Coordinator or electronically using the Government-wide Grants.gov Web site. Users of Grants.gov who download a copy of the application package may complete it off line and then upload and submit the application via the Grants.gov site, including all information typically included on the application, and all necessary assurances and certifications. After electronically submitting an application through the Web site, the applicant will receive an automated acknowledgement from Grants.gov that contains a Grants.gov tracking number.

(2) Guaranteed loan applications. Guaranteed loan only applications (i.e., those that are not part of a guaranteed loan/grant combination request) must be submitted as hard copy.

(3) Guaranteed loan/grant combination applications. Applications for guaranteed loans/grants (combination applications) must be submitted as hard copy.

E. Other Submission Requirements and Information

(1) Application restrictions. Applicants may apply for only one renewable energy system project and one energy efficiency improvement project in Fiscal Year 2014.

(2) Environmental information. For the Agency to consider an application, the application must include all environmental review documents with supporting documentation in accordance with 7 CFR part 1940, subpart G. Any required environmental review must be completed in full prior to obligation of funds or the approval of the application.

(3) Original signatures. USDA Rural Development may request that the applicant provide original signatures on forms submitted through Grants.gov at a later date.

(4) Form AD 2106. Each applicant is requested to submit Form AD 2106, “Form to Assist in Assessment of USDA Compliance with Civil Rights Laws,” with their application. This form requests information on the applicant's race, ethnicity, and gender. The information contained in this form will allow the Agency to evaluate its outreach efforts to under-served and under-represented populations. Applicants are encouraged to furnish this form and the information requested with their application, but are not required to do so. Not furnishing this information will neither affect an applicant's eligibility nor the likelihood of an applicant receiving an award.

This form is available from any USDA Rural Development Energy Coordinator, as identified via the following link: http://www.rurdev.usda.gov/BCP_Energy_CoordinatorList.html, and from http://forms.sc.egov.usda.gov/eForms/welcomeAction.do?Home.

(5) Award considerations. In determining the amount of a renewable energy system or energy efficiency improvement grant or loan guarantee, the Agency will consider the six criteria specified in 7 CFR 4280.115(g) or 7 CFR 4280.124(f), as applicable.

(6) Hybrid projects. If the application is for a hybrid project, technical reports, as required under 7 CFR 4280.116(b)(7), must be prepared for each technology that comprises the hybrid project.

(7) Multiple facilities. Applicants may submit a single application that proposes to apply the same renewable energy system (including the same hybrid project) or energy efficiency improvement across multiple facilities. For example, a rural small business owner owns five retail stores and wishes to install solar panels on each store. The rural small business owner may submit a single application for installing the solar panels on the five stores. However, if this same owner wishes to install solar panels on three of the five stores and wind turbines for the other two stores, the owner can only submit an application for either the solar panels or for the wind turbines in the same fiscal year.

V. Program Provisions

This section of the Notice identifies the provisions of 7 CFR 4280, subpart B applicable to each type of funding available under REAP.

A. General

The provisions specified in 7 CFR 4280.101 through 4280.111 apply to this Notice.

B. Renewable Energy System and Energy Efficiency Improvement Project Grants

In addition to the other provisions of this Notice, the requirements specified in 7 CFR 4280.112 through 4280.121 apply to renewable energy system and energy efficiency improvement projects grants.

C. Renewable Energy System and Energy Efficiency Improvement Project Guaranteed Loans

In addition to the other provisions of this Notice, the requirements specified in 7 CFR 4280.122 through 4280.160 apply to guaranteed loans for renewable energy system and energy efficiency improvement projects. For Fiscal Year 2014, the guarantee fee amount is 1 percent of the guaranteed portion of the loan and the annual renewal fee is 0.250 percent (one-quarter of 1 percent) of the guaranteed portion of the loan.

D. Renewable Energy System and Energy Efficiency Improvement Project Grant and Guaranteed Loan Combined Requests

In addition to the other provisions of this Notice, the requirements specified in 7 CFR 4280.165 apply to a combined grant and guaranteed loan for renewable energy system and energy efficiency improvement projects. Any applicant that submits a combined grant and guaranteed loan application will not be allowed to modify their application to a grant only or guaranteed loan only application after the applicable submission date and time, as identified in the DATES section of this Notice, and remain eligible for Fiscal Year 2014 funds.

E. Resubmittal of Fiscal Year 2013 Renewable Energy System and Energy Efficiency Improvement Applications

If an application for a project was submitted for the first time in Fiscal Year 2013 and that initial application was determined eligible but was not funded, the Agency will consider that initial Fiscal Year 2013 application for funding in Fiscal Year 2014 as provided in this section. If an applicant has already re-submitted in an earlier fiscal year (i.e. initial application was submitted in Fiscal Year 2012 or earlier), the applicant must submit a new application meeting the requirements of this Notice in order to be considered for Fiscal Year 2014 funds for that project and a new submission date of record will be established.

(1) Written request. An applicant must submit a written request for the Agency to consider its Fiscal Year 2013 application for Fiscal Year 2014 funds.

(i) For a guaranteed loan and grant combination application, both the lender and applicant must submit the written request to the Agency in order to be considered for Fiscal Year 2014 funds.

(ii) Except for simplified applications, the applicant must provide, with the written request, the applicant's current balance sheet and income statement that meets the program requirements outlined in 7 CFR 4280.116(b)(4). Notwithstanding the requirements outlined in 7 CFR 4280.116(b)(4), the current balance sheet and income statement must not be more than 90 days old relative to the date the applicant submits the written request.

(iii) The Agency is requesting that each applicant submit Form AD 2106, “Form to Assist in Assessment of USDA Compliance with Civil Rights Laws,” with their written request. This form requests information on the applicant's race, ethnicity, and gender. The information contained in this form will allow the Agency to evaluate its outreach efforts to under-served and under-represented populations. Applicants are encouraged to furnish this form and the information requested with their application, but are not required to do so. An applicant's eligibility or the likelihood of receiving an award will not be impacted by furnishing or not furnishing this information. This form is available from any USDA Rural Development Energy Coordinator, as provided in the SUPPLEMENTARY INFORMATION section of this Notice, and from http://forms.sc.egov.usda.gov/eForms/welcomeAction.do?Home.

(iv) Written requests to consider Fiscal Year 2013 applications for Fiscal Year 2014 funds may be submitted at any time during Fiscal Year 2014, by the applicable submission date and time, identified in the DATES section of this Notice. Written requests received after the identified time and date will not be accepted by the Agency and the applicant's Fiscal Year 2013 application will not be considered for Fiscal Year 2014 funds and be withdrawn.

(2) Balance sheet and income statements. Upon receipt of the balance sheet and income statements required under paragraph E(1)(ii) of this Notice, the Agency will determine whether there is any change to the application's score. If there is a change to the application's score, then the provisions specified in paragraph E(3) apply. If there is no change to the application's score, then the provisions of either paragraph E(3) or E(4) apply as applicable.

(3) Revisions/change in score to Fiscal Year 2013 applications. If an applicant plans to make any revisions to its Fiscal Year 2013 application or if the current balance sheet and income statement submitted under paragraph E(1)(ii) of this Notice results in a change to the application's score (even if no other revisions to the Fiscal Year 2013 application are planned), a new application meeting the requirements of this Notice must be submitted in order to be considered for Fiscal Year 2014 funds and a new submission date of record will be established.

(4) No revisions/changes in score to Fiscal Year 2013 applications. If an applicant does not plan to make any revisions to its Fiscal Year 2013 application and the current balance and income statement submitted under paragraph E(1)(ii) of this Notice does not result in a change to the application's score, a new application is not required and the submission date of record remains unchanged from its original Fiscal Year 2013 submittal date.

F. Award Process

In addition to the process for awarding funding under 7 CFR 4280, subpart B, the Agency will make awards using the following considerations:

(1) Funding renewable energy system and energy efficiency improvement grant and grant/guaranteed loan awards. Considering the availability of funds, the Agency will fund those grant only applications and grant/guaranteed loan applications that score the highest based on the grant score of the application; that is, the grant score an application receives will be compared to the grant scores of other applications, with higher scoring applications receiving first consideration for funding.

(2) Guaranteed loan only awards. Considering the availability of funds, the Agency will fund those guaranteed loan only applications that score the highest compared to the scores of other applications, with higher scoring applications receiving first consideration for funding.

(3) Evaluation criteria. Agency personnel will score each application based on the evaluation criteria specified in 7 CFR 4280.117(c), or 7 CFR 4280.129(c), as applicable.

For hybrid applications, each technical report will be evaluated and scored based on its own merit. The scores for the technologies will be consolidated using a weighted average approach based on the percentage of the cost for each system to the total eligible project cost.

Example: A hybrid project contains a wind and solar photovoltaic components. The wind system will cost $30,000 (75 percent of total eligible project cost) and the solar will cost $10,000 (25 percent of total eligible project cost). The wind technical report was evaluated and assigned a total score of 22 points, while the solar report was evaluated and assigned a total score of 31 points. In this scenario, the final technical score would be assigned as follows: (22 × 75 percent) + (31 × 25 percent) = 24.25.

(4) Applications that receive the same score. If applications score the same and if remaining funds are insufficient to fund each such application, the Agency may distribute the remaining funds to a lower scoring application. Before this occurs, the Agency will provide the applicants of the higher scoring applications the opportunity to reduce the amount of the applicants' request to the amount of funds available. If the applicant(s) agrees to lower their request, the applicant(s) must certify that the purposes of the project will be met and provide the remaining total funds needed to complete the project. At its discretion, the Agency may also elect to allow the remaining funds to be carried over to the next fiscal year rather than selecting a lower scoring application or distributing funds on a pro-rata basis.

VI. Administration Information

A. Notifications

(1) Applicants. The notification provisions of 7 CFR 4280.111 apply to this Notice.

(2) Lenders. The notification provisions of 7 CFR 4280.129(a) apply to this Notice.

B. Administrative and National Policy Requirements

(1) Exception authority. The provisions of 7 CFR 4280.104 apply to this Notice.

(2) Appeals. A person may seek a review of an Agency decision or appeal to the National Appeals Division in accordance with 7 CFR 4280.105.

(3) Conflict of interest. The provisions of 7 CFR 4280.106 apply to this Notice.

(4) USDA Departmental Regulations and other laws that contains other compliance requirements. The provisions of 7 CFR 4280.107 and 7 CFR 4280.108 apply to this Notice.

VII. Agency Contacts

For assistance on this program, please contact a USDA Rural Development Energy Coordinator, as identified via the following link: http://www.rurdev.usda.gov/BCP_Energy_CoordinatorList.html.

VIII. Nondiscrimination Statement

The U.S. Department of Agriculture (USDA) prohibits discrimination against its customers, employees, and applicants for employment on the bases of race, color, national origin, age, disability, sex, gender identity, religion, reprisal, and where applicable, political beliefs, marital status, familial or parental status, sexual orientation, or all or part of an individual's income is derived from any public assistance program, or protected genetic information in employment or in any program or activity conducted or funded by the Department. (Not all prohibited bases will apply to all programs and/or employment activities.)

If you wish to file a Civil Rights program complaint of discrimination, complete the USDA Program Discrimination Complaint Form (PDF), found online at http://www.ascr.usda.gov/complaint_filing_cust.html, or at any USDA office, or call (866) 632-9992 to request the form. You may also write a letter containing all of the information requested in the form. Send your completed complaint form or letter to us by mail at U.S. Department of Agriculture, Director, Office of Adjudication, 1400 Independence Avenue SW., Washington, DC 20250-9410, by fax (202) 690-7442 or email at program.intake@usda.gov.

Individuals who are deaf, hard of hearing or have speech disabilities and you wish to file either an EEO or program complaint please contact USDA through the Federal Relay Service at (800) 877-8339 or (800) 845-6136 (in Spanish).

Persons with disabilities, who wish to file a program complaint, please see information above on how to contact us by mail directly or by email. If you require alternative means of communication for program information (e.g., Braille, large print, audiotape, etc.) please contact USDA's TARGET Center at (202) 720-2600 (voice and TDD).

Dated: April 18, 2014.
Andrew Jermolowicz,
Acting Administrator, Rural Business-Cooperative Service.

[FR Doc. 2014-10054 Filed 5-2-14; 8:45 am]

BILLING CODE 3410-XY-P